DEPARTMENT OF COMMERCE

International Trade Administration

[Application No. 84-20A12]

Export Trade Certificate of Review

ACTION: Notice of Issuance (#84-20A12) of an Amended Export Trade Certificate of Review to Northwest Fruit Exporters.

SUMMARY: On September 16, 2009, the Export Trading Company Affairs Office, International Trade Administration, U.S. Department of Commerce, issued an amended Export Trade Certificate of Review (“Certificate”) to Northwest Fruit Exporters (“NFE”).

FOR FURTHER INFORMATION CONTACT: Jeffrey Anspacher, Acting Director, Office of Competition and Economic Analysis, International Trade Administration, (202) 482-5131 (this is not a toll-free number) or by e-mail at oetca@ita.doc.gov.

SUPPLEMENTARY INFORMATION: Title III of the Export Trading Company Act of 1982 (15 U.S.C. sections 4001-21) authorizes the Secretary of Commerce to issue Export Trade Certificates of Review. The regulations implementing Title III are found at 15 CFR part 325 (2006).

Export Trading Company Affairs (“ETCA”) is issuing this notice pursuant to 15 CFR section 325.6(b), which requires the Secretary of Commerce to publish a summary of the certification in the Federal Register. Under section 305(a) of the Act (15 U.S.C. sections 4001-21) and 15 CFR section 325.11(a), any person aggrieved by the Secretary's determination may, within 30 days of the date of this notice, bring an action in any appropriate district court of the United States to set aside the determination on the ground that the determination is erroneous.

Description of Amended Certificate:

The original NFE Certificate (No. 84-00012) was issued on June 11, 1984 (49 FR 24581, June 14, 1984), and last amended on September 18, 2008 (73 FR 54561, September 22, 2008).

NFE's Export Trade Certificate of Review has been amended to:

1. Add the following companies as new Members of the Certificate within the meaning of section 325.2(1) of the Regulations (15 CFR 325.(1)): Cervantes Orchards & Vineyards LLC, Grandview, WA; Columbia Valley Fruit, L.L.C., Yakima, WA; Conrad & Gilbert Fruit, Grandview, WA; Diamond Fruit Growers, Odell, OR; Orchard View Farms, Inc., The Dalles, OR; and Wenoka Sales LLC, Wenatchee, WA.

2. Delete the following companies as Members of the Certificate: Clasen Fruit & Cold Storage Co., Union Gap, WA; Lotus Fruit Packing, Inc., Brewster, WA; Snokist Growers, Yakima, WA; and Tree To You, LLC, Chelan, WA.

3. Change the listing of the following Member: Change “Congdon Orchards, Inc., Yakima, WA” to the new listing “Congdon Packing Co. L.L.C., Yakima, WA”.

Dated: September 17, 2009.
Jeffrey Anspacher,
Acting Director, Office of Competition and Economic Analysis.

[FR Doc. E9-22865 Filed 9-22-09; 8:45 am]

BILLING CODE P